SECURITIES AND EXCHANGE COMMISSION

[Release No. 34-58778A; File No. SR-CBOE-2008-90]

Self-Regulatory Organizations; Chicago Board Options Exchange, Incorporated; Order Granting Approval of a Proposed Rule Change Related to Trades in Restricted Classes; Correction

October 23, 2008.

In FR Doc. No. E8-24971, for Tuesday, October 21, 2008, on page 62577, third column, first full paragraph, the first sentence is revised to read:

The Commission finds that the proposed rule change is consistent with the requirements of the Act and the rules and regulations thereunder applicable to a national securities exchange 4a and, in particular, the requirements of Section 6(b) of the Act ⁵ and the rules and regulations thereunder.

4a In approving this proposed rule change, the Commission has considered the proposed rule's impact on efficiency, competition, and capital formation. 15 U.S.C. 78c(f).

⁵ 15 U.S.C. 78f(b).

For the Commission, by the Division of Trading and Markets, pursuant to delegated authority (17 CFR 200.30-(a)(12).

Florence E. Harmon,
Acting Secretary.

[FR Doc. E8-25627 Filed 10-27-08; 8:45 am]

BILLING CODE 8011-01-P